DEPARTMENT OF ENERGY

Federal Energy Regulatory Commission

18 CFR Part 35

[Docket No. RM01-12-000]

Remedying Undue Discrimination Through Open Access Transmission Service and Standard Electricity Market Design

November 20, 2002.

AGENCY: Federal Energy Regulatory Commission, DOE.

ACTION: Notice of technical conference.

SUMMARY: Commission staff will convene a technical conference on December 6, 2002 to discuss the cyber-security provisions described in Section M and Appendix G of the Notice of Proposed Rulemaking issued in this docket on July 31, 2002. See 67 FR 55,452 (Aug. 29, 2002). There will be an opportunity for interested persons to make very brief public statements at the conference, following the presentations.

DATES: Requests to speak are due November 27, 2002. The conference will take place on December 6, 2002.

ADDRESSES: Send requests to speak to: Office of the Secretary, Federal Energy Regulatory Commission, 888 First Street, NE., Washington, DC 20426.

The conference will take place at: Federal Energy Regulatory Commission, 888 First Street, NE., Washington, DC 20426.

FOR FURTHER INFORMATION CONTACT: Sarah McKinley, Office of External Affairs, Federal Energy Regulatory Commission, 888 First Street, NE., Washington, DC 20426, (202) 502-8004.

SUPPLEMENTARY INFORMATION:

Notice of Technical Conference

1. Take notice that a technical conference will be held on December 6, 2002, from approximately 9:30 a.m. until 3 p.m., in the Commission Meeting Room on the second floor of the offices of the Federal Energy Regulatory Commission, 888 First Street, NE., Washington, DC. The goal of the conference is to discuss and analyze proposed rules for cyber-security.

2. Conference panelists will discuss the security provisions described in Section M and Appendix G of the Notice of Proposed Rulemaking (NOPR) published in this docket on July 31, 2002. They will also address the updated proposal that the North American Electricity Reliability Council (NERC) filed in this docket on November 15, 2002. There will be a discussion of the public comments filed in response to the system security provisions described in the NOPR, and an opportunity to make additional public comments, as described below.

3. Copies of the NOPR security proposal may be obtained from: http://www.ferc.fed.us/Electric/RTO/Mrkt-Strct-comments/discussion_paper.htm. Copies of the NERC security proposal are available in Appendix A at: ftp://www.nerc.com/pub/sys/all_updl/docs/ferc/RM01-12-000-SMD.pdf.

4. Commission staff has asked selected individuals to speak at this conference, and is not entertaining requests to make presentations. However, interested persons will be permitted to make very brief public statements. Such statements should not be repetitive of materials that speakers have already filed in the public record of this docket. Persons interested in making brief statements should file a request to speak on or before November 27, 2002, in Docket No. RM01-12-000. If possible, interested speakers should also send a copy of their request to speak by e-mail to customer@ferc.gov. The request should clearly specify the name of the speaker; his or her title; the person or entity the speaker represents; the speaker's mailing address, telephone number, facsimile number and e-mail address; and a brief description of the issues the speaker wishes to address. As the number of potential speakers may exceed the time allotted for the conference, interested speakers are encouraged to coordinate their efforts with others who may have similar interests.

5. All interested persons may attend the technical conference, and registration is not required. Further details of the conference, and the conference agenda, will be provided in a subsequent notice.

6. Transcripts of the conference will be immediately available from Ace Reporting Company (202-347-3700 or 1-800-336-6646), for a fee. They will be available for the public on the Commission's FERRIS system two weeks after the conference. Additionally, Capitol Connection offers the opportunity for remote listening and viewing of the conference. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC.”

7. For more information about the conferences, please contact Sarah McKinley at (202) 502-8004 or sarah.mckinley@ferc.gov.

Linwood A. Watson, Jr.,
Deputy Secretary.

[FR Doc. 02-30032 Filed 11-26-02; 8:45 am]

BILLING CODE 7590-01-P